NUCLEAR REGULATORY COMMISSION

Licensing Support Network; Advisory Review Panel

AGENCY: Nuclear Regulatory Commission.

ACTION: Notice of public meeting.

SUMMARY: The Licensing Support Network Advisory Review Panel (LSNARP) will hold its next meeting on Tuesday and Wednesday, June 3-4, 2003, at the Alexis Park, located at 375 East Harmon, Las Vegas, Nevada 89109. The meeting will be open to the public pursuant to the Federal Advisory Committee Act (Pub. L. 94-463, 86 Stat. 770-776).

Agenda: The meeting will be held from 8:30 a.m. to 5 p.m. on Tuesday, June 3 and from 8:30 to close of business on Wednesday, June 4. The preliminary agenda includes the topics listed below. Additional details regarding timing of presentations and changes to the agenda may be obtained through the contacts listed below and will be announced prior to the meeting.

1. Introductory Remarks—NRC/LSNARP

NRC Organizational responsibilities and roles

2. LSN Status Report—NRC-ASLBP/LSN Administrator

Status and Schedule for document loading—NRC/DOE/Potential Parties

3. Large Document Summary Paper (review of 4 options)—NRC-OCIO

4. Large Document Draft Guidance—NRC-OCIO

5. Discussion of LSNARP membership on Options and Guidance—LSNARP

6. Scope of documents to be loaded on LSN—NRC-OGC

Document Duplication

Status of Revised Topical Guidelines

Meaning of Certification

7. Need for Part 2 rule changes/schedule—NRC-OGC

Electronic and/or CD-submittal

Ambiguities in rule

Document Duplication

SUPPLEMENTARY INFORMATION: The LSN is an internet based electronic discovery database being developed to aid the NRC in complying with the schedule for decision on the construction authorization for the high-level waste repository contained in section 114(d) of the Nuclear Waste Policy Act of 1982, as amended. In 1998, the NRC Rules of Practice in 10 CFR part 2, subpart J, were modified to provide for the creation and operation of the LSN, an internet-based technological solution to the submission and management of records and documents relating to the licensing of a geologic repository for the disposal of high-level radioactive waste. (63 FR 71729) Pursuant to 10 CFR 2.1011(d), the agency has chartered the LSNARP, an advisory committee that provides advice to the NRC on fundamental issues relating to LSN design, operation, maintenance, and compliance monitoring.

FOR FURTHER INFORMATION CONTACT: U.S. Nuclear Regulatory Commission, Office of the Secretary, Mail Stop O-16 C1, Washington, DC 20555-0001; Attn: Andrew Bates (telephone 301-415-1963; e-mail ALB@NRC.GOV) or Atomic Safety and Licensing Board Panel, Mail Stop T-3 F23, Attn: Jack G. Whetstine (telephone 301-415-7391; e-mail JGW@NRC.GOV).

Public Participation: Interested persons may make oral presentations to the LSNARP or file written statements. An oral presentations request should be made to one of the contact persons listed above as far in advance as practicable so that appropriate arrangements can be made.

Dated: May 9, 2003.
Andrew L. Bates,
Advisory Committee Management Officer.

[FR Doc. 03-12254 Filed 5-15-03; 8:45 am]

BILLING CODE 7590-01-P